DEPARTMENT OF COMMERCE

Foreign-Trade Zones Board

[B-10-2015]

Foreign-Trade Zone (FTZ) 245—Decatur, Illinois; Notification of Proposed Production Activity; Thyssenkrupp Presta Danville, LLC; (Camshafts); Danville, Illinois

The Economic Development Corporation of Decatur & Macon County, grantee of FTZ 245, submitted a notification of proposed production activity to the FTZ Board on behalf of Thyssenkrupp Presta Danville, LLC (Thyssenkrupp Presta), located in Danville, Illinois. The notification conforming to the requirements of the regulations of the FTZ Board (15 CFR 400.22) was received on February 18, 2015.

A separate application for subzone designation at the Thyssenkrupp Presta facility was submitted and will be processed under Section 400.31 of the Board's regulations. The facility is used for the production of camshafts for the automotive industry. Pursuant to 15 CFR 400.14(b), FTZ activity would be limited to the specific foreign-status materials and components and specific finished products described in the submitted notification (as described below) and subsequently authorized by the FTZ Board.

Production under FTZ procedures could exempt Thyssenkrupp Presta from customs duty payments on the foreign status components used in export production. On its domestic sales, Thyssenkrupp Presta would be able to choose the duty rates during customs entry procedures that apply to camshafts for use with spark-ignition internal combustion piston engines (duty rate 2.5%) for the foreign status inputs noted below. Customs duties also could possibly be deferred or reduced on foreign status production equipment.

The components and materials sourced from abroad include: Welded, cold-drawn steel tubes; camlobes; nosepieces; sensor rings; sprockets; thrust rings; cap plugs; thrust washers; end plugs; and, end caps (duty rate ranges from duty-free to 2.8%).

Public comment is invited from interested parties. Submissions shall be addressed to the Board's Executive Secretary at the address below. The closing period for their receipt is April 6, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: February 18, 2015.
Andrew McGilvray,
Executive Secretary.

[FR Doc. 2015-03771 Filed 2-23-15; 8:45 am]

BILLING CODE 3510-DS-P